Title 3—

The President

Proclamation 10061 of August 14, 2020

National Employer Support of the Guard and Reserve Week, 2020

By the President of the United States of America

A Proclamation

In the early days of our Nation's quest for independence, volunteer forces and militias formed the backbone of our armed resistance. These first patriots fought valiantly when called upon to defend liberty, and then returned to their everyday jobs as farmers, blacksmiths, cobblers, merchants, and a host of other occupations when the fighting was over. Today, the citizen warriors of the National Guard and Reserve carry forward this proud legacy and are essential to our prosperity, resilience, and national defense. During National Employer Support of the Guard and Reserve Week, we honor the employers who hire and support these brave men and women and who stand beside them in their mission to ensure the security of our Nation.

Our National Guard and Reserve service members are critical to businesses and organizations in every sector of our economy, from education and healthcare to construction and agriculture. Just as they deliver meaningful contributions in civilian life, these men and women also provide strategic depth and operational capability to the Joint Force in uniform, deploying in support of critical missions throughout the world and responding to natural disasters and numerous other challenges on the home front. This year in particular, we have clearly seen their courage and unwavering resolve as they have selflessly served on the front lines of our Nation's response to the coronavirus pandemic. Despite the risk to their own health, they have supported medical staff at hospitals and nursing homes, distributed food to hard-hit communities, built, staffed, and equipped alternate care facilities, and delivered life-saving medical equipment and supplies.

Because of the vital importance of our National Guard and Reserve forces to our national security, those who employ them are key partners in the defense of our Nation. Their support in providing stability and flexibility to these men and women is critical to the country's ability to mobilize quickly in times of crisis. These employers often make great financial sacrifices themselves to ensure that their National Guard and Reserve employees are able to carry out their missions and responsibilities quickly and effectively. As one Nation, we extend our gratitude and respect to the men and women who employ our National Guard and Reserve forces for their role in ensuring the readiness and retention of our fighting force.

Our military is the finest in the world thanks in no small part to our brave service members and their patriotic employers. During this week of recognition, I salute and honor all employers who cooperate and partner with our National Guard and Reserve service members for their unwavering support and selfless commitment to protecting our Nation and preserving our American way of life.

NOW, THEREFORE, I, DONALD J. TRUMP, President of the United States of America, by virtue of the authority vested in me by the Constitution and the laws of the United States, do hereby proclaim August 16 through August 22, 2020, as National Employer Support of the Guard and Reserve Week. I call upon all Americans to join me in expressing our heartfelt thanks to the civilian employers who provide critical support to the men and women of the National Guard and Reserve. I also call on State and local officials, private organizations, and all military commanders to observe this week with appropriate ceremonies and activities.

IN WITNESS WHEREOF, I have hereunto set my hand this fourteenth day of August, in the year of our Lord two thousand twenty, and of the Independence of the United States of America the two hundred and forty-fifth.

[FR Doc. 2020-18340

Filed 8-18-20; 11:15 am]

Billing code 3295-F0-P